DEPARTMENT OF COMMERCE

National Oceanic and Atmospheric Administration

[RTID 0648-XF371]

North Pacific Fishery Management Council; Public Meeting

AGENCY: National Marine Fisheries Service (NMFS), National Oceanic and Atmospheric Administration (NOAA), Commerce.

ACTION: Notice of hybrid conference.

SUMMARY: The North Pacific Fishery Management Council (Council) the Groundfish Harvest Control Rule Development Workshop will meet on January 20, 2026, and the Joint Groundfish Plan Teams will meet on January 21, 2026.

DATES: The meetings will be held on January 20, 2026 and January 21, 2026, from 9 a.m. to 5 p.m., Pacific Standard Time (PST).

ADDRESSES: The meetings will be hybrid conferences. The in-person component of the meetings will be held at the Alaska Fishery Science Center in the Traynor Room 2076, 7600 Sand Point Way NE, Building 4, Seattle, WA 98115. If you plan to attend either meeting in person you need to notify Diana Stram (dstram@npfmc.org) at least 2 days prior to the meeting (or 2 weeks prior if you are a foreign national). You will also need a valid U.S. Identification Card.

Council address: North Pacific Fishery Management Council, 1007 W 3rd Ave., Suite 400, Anchorage, AK 99501-2252; telephone: (907) 271-2809. Instructions for attending the meeting via video conference are given under Supplementary Information, below.

FOR FURTHER INFORMATION CONTACT: Sara Cleaver, Council staff; email: scleaver@npfmc.org or Diana Stram, Council staff; email dstram@npfmc.org.

For technical support, please contact our administrative staff; email: support@npfmc.org; or telephone: 907-271-2809.

SUPPLEMENTARY INFORMATION:

Agenda

Tuesday, January 20, 2026

Groundfish Harvest Control Rule Development Workshop

This public workshop will discuss and refine draft frameworks for moving towards more climate resilient harvest control rules (HCRs) under the Bering Sea and Aleutian Islands (BSAI) and Gulf of Alaska (GOA) Groundfish fishery management plan (FMP) harvest specifications process. The agenda is subject to change, and the latest version will be posted at https://meetings.npfmc.org/Meeting/Details/3115.

Wednesday, January 21, 2026

Groundfish Plan Team Meeting

Joint BSAI/GOA Groundfish Plan Team meeting: Review the 2025 harvest specifications process; review and make recommendations for a range of draft frameworks for climate resilient HCRs. The agenda is subject to change, and the latest version will be posted at https://meetings.npfmc.org/Meeting/Details/3114 prior to the meeting, along with meeting materials.

Connection Information

You can attend the meetings online using a computer, tablet, smartphone, or by phone. Instructions and connection details for joining the Groundfish Harvest Control Rule Development Workshop via videoconference will be available at: https://meetings.npfmc.org/Meeting/Details/3115.

Instructions and connection details for joining the Groundfish Plan Team Meeting via videoconference will be available at: https://meetings.npfmc.org/Meeting/Details/3114.

Public Comment

Public comment letters will be accepted and should be submitted electronically to https://meetings.npfmc.org/Meeting/Details/3114 or https://meetings.npfmc.org/Meeting/Details/3115.

Authority: 16 U.S.C. 1801 et seq.

Dated: December 11, 2025.
Rey Israel Marquez,
Acting Deputy Director, Office of Sustainable Fisheries, National Marine Fisheries Service.

[FR Doc. 2025-22823 Filed 12-12-25; 8:45 am]

BILLING CODE 3510-22-P